DEPARTMENT OF HEALTH AND HUMAN SERVICES

Administration for Community Living

Availability of Program Application Instructions for the Protection and Advocacy Systems Network To Expand COVID-19 Vaccine Access for People With Disabilities

Title: Expanding Disabilities Network's (Protection and Advocacy Systems) Access to COVID-19 Vaccines.

Announcement Type: Initial.

Statutory Authority: Subtitle C of the Developmental Disabilities Assistance and Bill of Rights Act of 2000 (DD Act).

Catalog of Federal Domestic Assistance (CFDA) Number: 93.630.

DATES: The deadline date for the submission of the Expanding Disabilities Network's (Protection and Advocacy Systems) Access to COVID-19 Vaccines is 11:59 p.m. Eastern Time April 23, 2021.

SUPPLEMENTARY INFORMATION:

I. Funding Opportunity Description

The Administration for Community Living (ACL) announced a new funding opportunity to increase vaccine access for people with disabilities. With funding and partnership support from the Centers for Disease Control and Prevention (CDC), ACL is providing grants to disability networks to provide critical services to help communities combat COVID-19. A leading priority of this joint effort is to ensure vaccines are equally accessible to the disability population. Approximately 61 million adults living with in the US have a disability, representing approximately 26 percent of the adult population. People with disabilities may have an increased risk for contracting COVID-19 based on where they live or the services they receive. Some people with disabilities live in group settings, which places them at higher risk for acquiring COVID-19 in comparison to people without disabilities. People with disabilities may also require close contact with direct service providers, including personal care attendants or other care providers, who help with activities of daily living. Moreover, many people with disabilities have underlying health conditions (e.g., diabetes, heart disease, and obesity) that increases the risk of severe illness due to COVID-19. In addition, research also found that people with Down Syndrome are significantly more likely to be hospitalized from COVID-19 than the general population.

There are increasing reports of barriers of unequal access in communities to vaccinate people with disabilities. For example, some people with disabilities may experience difficulties scheduling appointments, communicating, obtaining accessible transportation or require direct support services to attend vaccination appointments. Others living in the community may be isolated or unable to leave their home and may require in-home vaccination.

This funding opportunity is designed to breakdown those barriers to expand vaccine access in communities. Examples of activities consistent with the purpose of this funding are the following:

• Education about the importance of receiving a vaccine;

• Identifying people unable to independently travel to a vaccination site;

• Helping with scheduling a vaccine appointment;

• Arranging or providing accessible transportation;

• Providing companion/personal support;

• Reminding people of the second vaccination appointment if needed; and/or

• Providing technical assistance to local health departments or other entities on vaccine accessibility.

Awards authorized under Subtitle C of the DD Act to the Protection and Advocacy Systems (P&As) shall be provided funding under this opportunity. Award recipients will be required to submit annual progress reports in the form of a written summary on the activities conducted, challenges, successes, and lessons learned. In addition, to show impact of the grant awards, the grantee will include the number of people served or impacted by the services provided, against each of the activities chosen to be implemented. To be eligible to receive this grant, the grantee must submit a Letter of Assurance to ACL containing all the assurances required, (see below, “Section III. Eligibility Criteria and Other Requirements” and “Section IV. Submission Information”). P&As that do not complete assurance requirements below, or otherwise indicate no desire to receive funds will be excluded from receiving funds.

ACL may establish ad hoc dates based on the need of the COVID-19 response, e.g., to meet unanticipated issues related to COVID-19 and/or to allow impacted eligible applicants that missed the cut-off date to submit an application for consideration. ACL intends to issue initial notices of award as applications are received prior to the application due date to address urgent COVID-19 response needs. Second notices of award are planned after the actual number of applicants is finalized.

II. Award Information

1. Funding Instrument Type

These awards will be made in the form of formula grants to P&As.

2. Anticipated Total Funding per Budget Period

Under this program announcement, ACL intends to make grant awards to each State, Territory, the District of Columbia, and the Native American Consortium. Awards made under this announcement have an estimated start date of April 1, 2021 and an estimated end date of December 31, 2022, for a 20- month budget and performance period.

The total available funding for this opportunity is $4,000,000. Funding will be distributed based on the state/territory population. There are no cost-sharing nor match requirements.

Below are the projected award amounts:

Jurisdiction | Projected amount
Alabama | $50,203
Alaska | 39,713
Arizona | 74,525
Arkansas | 39,713
California | 404,556
Colorado | 58,963
Connecticut | 39,713
Delaware | 39,713
District of Columbia | 39,713
Florida | 219,907
Georgia | 108,710
Hawaii | 39,713
Idaho | 39,713
Illinois | 129,744
Indiana | 68,930
Iowa | 39,713
Kansas | 39,713
Kentucky | 45,744
Louisiana | 47,598
Maine | 39,713
Maryland | 61,901
Massachusetts | 70,571
Michigan | 102,254
Minnesota | 57,743
Mississippi | 39,713
Missouri | 62,840
Montana | 39,713
Nebraska | 39,713
Nevada | 39,713
New Hampshire | 39,713
New Jersey | 90,943
New Mexico | 39,713
New York | 199,181
North Carolina | 107,386
North Dakota | 39,713
Ohio | 119,683
Oklahoma | 40,515
Oregon | 43,185
Pennsylvania | 131,077
Rhode Island | 39,713
South Carolina | 52,717
South Dakota | 39,713
Tennessee | 69,923
Texas | 296,883
Utah | 39,713
Vermont | 39,713
Virginia | 87,394
Washington | 77,967
West Virginia | 39,713
Wisconsin | 59,615
Wyoming | 39,713
American Samoa | 21,246
Guam | 21,246
Northern Marianas | 21,246
Puerto Rico | 39,713
Virgin Islands | 21,246
Native American | 21,246
Total | 4,000,000

III. Eligibility Criteria and Other Requirements

1. Eligible Entities

The eligible entity for these awards is the agency designated as a P&A per the DD Act.

2. Other Requirements

A. Letter of Assurance

A Letter of Assurance is required to be submitted by the eligible entity in order to receive an award. The Letter of Assurance must include the following:

1. Assurance that the award recipient is the agency or entity designated as P&A per the DD Act.

2. Assurance that funds will supplement and not supplant existing P&A funding.

3. Assurance that funds will be spent in ways consistent with the purpose of the funding in carrying out one or more of the following activities:

• Education about the importance of receiving a vaccine;

• Identifying people unable to independently travel to a site;

• Helping with scheduling a vaccine appointment;

• Arranging or providing accessible transportation;

• Providing companion/personal support;

• Reminding people of their second vaccination appointment if needed; and/or,

• Providing technical assistance to local health departments or other entities on vaccine accessibility.

4. Assurance that the award recipient will do outreach to Aging and Disability Resource Centers, Centers for Independent Living, State Councils on Developmental Disabilities, and University Centers for Excellence in Developmental Disabilities Education, Research, and Service to maximize state coordination wherever possible.

5. Assurance to provide semi-annual federal financial reports annual program reports that describes activities conducted, challenges, successes, and lessons learned. The written summary will also include number of people served or impacted by the services provided.

B. DUNS Number

All grant applicants must obtain and keep current a D-U-N-S number from Dun and Bradstreet. It is a nine-digit identification number, which provides unique identifiers of single business entities. The D-U-N-S number can be obtained from: https://iupdate.dnb.com/iUpdate/viewiUpdateHome.htm.

C. Intergovernmental Review

Executive Order 12372, Intergovernmental Review of Federal Programs, is not applicable to these grant applications.

IV. Submission Information

1. Letter of Assurance

To receive funding, eligible entities must provide a Letter of Assurance containing all the information outlined in Section III above.

Letters of Assurance should be addressed to: Alison Barkoff, Acting Administrator and Assistant Secretary for Aging, Administration for Community Living, 330 C Street SW, Washington, DC 20201.

Letters of Assurance should be submitted electronically via email to your ACL program officer. The following table identifies the designated program officer for each P&A:

P&A | Program officer | Email address
Alabama | Elizabeth Leef | Elizabeth.Leef@acl.hhs.gov.
Alaska | Rebecca Ellison | Rebecca.Ellison@acl.hhs.gov.
American Samoa | Elizabeth Leef | Elizabeth.Leef@acl.hhs.gov.
Arizona | Larissa Crossen | Larissa.Crossen@acl.hhs.gov.
Arkansas | Wilma Roberts | Wilma.Roberts@acl.hhs.gov.
California | Dana Fink | Dana.Fink@acl.hhs.gov.
Colorado | Wilma Roberts | Wilma.Roberts@acl.hhs.gov.
Connecticut | Melvenia Wright | Melvenia.Wright@acl.hhs.gov.
Delaware | Larissa Crossen | Larissa.Crossen@acl.hhs.gov.
District of Columbia | Larissa Crossen | Larissa.Crossen@acl.hhs.gov.
Florida | Elizabeth Leef | Elizabeth.Leef@acl.hhs.gov.
Georgia | Rebecca Ellison | Rebecca.Ellison@acl.hhs.gov.
Guam | Elizabeth Leef | Elizabeth.Leef@acl.hhs.gov.
Hawaii | Larissa Crossen | Larissa.Crossen@acl.hhs.gov.
Idaho | Rebecca Ellison | Rebecca.Ellison@acl.hhs.gov.
Illinois | Katherine Cargill-Willis | Katherine.Cargill-Willis@acl.hhs.gov.
Indiana | Katherine Cargill-Willis | Katherine.Cargill-Willis@acl.hhs.gov.
Iowa | Dana Fink | Dana.Fink@acl.hhs.gov.
Kansas | Dana Fink | Dana.Fink@acl.hhs.gov.
Kentucky | Rebecca Ellison | Rebecca.Ellison@acl.hhs.gov.
Louisiana | Elizabeth Leef | Elizabeth.Leef@acl.hhs.gov.
Maine | Wilma Roberts | Wilma.Roberts@acl.hhs.gov.
Maryland | Wilma Roberts | Wilma.Roberts@acl.hhs.gov.
Massachusetts | Wilma Roberts | Wilma.Roberts@acl.hhs.gov.
Michigan | Katherine Cargill-Willis | Katherine.Cargill-Willis@acl.hhs.gov.
Minnesota | Dana Fink | Dana.Fink@acl.hhs.gov.
Mississippi | Elizabeth Leef | Elizabeth.Leef@acl.hhs.gov.
Missouri | Katherine Cargill-Willis | Katherine.Cargill-Willis@acl.hhs.gov.
Montana | Larissa Crossen | Larissa.Crossen@acl.hhs.gov.
Native American | Wilma Roberts | Wilma.Roberts@acl.hhs.gov.
Nebraska | Dana Fink | Dana.Fink@acl.hhs.gov.
Nevada | Larissa Crossen | Larissa.Crossen@acl.hhs.gov.
New Hampshire | Melvenia Wright | Melvenia.Wright@acl.hhs.gov.
New Jersey | Melvenia Wright | Melvenia.Wright@acl.hhs.gov.
New Mexico | Elizabeth Leef | Elizabeth.Leef@acl.hhs.gov.
New York | Melvenia Wright | Melvenia.Wright@acl.hhs.gov.
North Carolina | Rebecca Ellison | Rebecca.Ellison@acl.hhs.gov.
North Dakota | Katherine Cargill-Willis | Katherine.Cargill-Willis@acl.hhs.gov.
Northern Marianas | Elizabeth Leef | Elizabeth.Leef@acl.hhs.gov.
Ohio | Dana Fink | Dana.Fink@acl.hhs.gov.
Oklahoma | Elizabeth Leef | Elizabeth.Leef@acl.hhs.gov.
Oregon | Rebecca Ellison | Rebecca.Ellison@acl.hhs.gov.
Pennsylvania | Wilma Roberts | Wilma.Roberts@acl.hhs.gov.
Puerto Rico | Melvenia Wright | Melvenia.Wright@acl.hhs.gov.
Rhode Island | Wilma Roberts | Wilma.Roberts@acl.hhs.gov.
South Carolina | Larissa Crossen | Larissa.Crossen@acl.hhs.gov.
South Dakota | Katherine Cargill-Willis | Katherine.Cargill-Willis@acl.hhs.gov.
Tennessee | Dana Fink | Dana.Fink@acl.hhs.gov.
Texas | Elizabeth Leef | Elizabeth.Leef@acl.hhs.gov.
Utah | Wilma Roberts | Wilma.Roberts@acl.hhs.gov.
Vermont | Wilma Roberts | Wilma.Roberts@acl.hhs.gov.
Virgin Islands | Melvenia Wright | Melvenia.Wright@acl.hhs.gov.
Virginia | Katherine Cargill-Willis | Katherine.Cargill-Willis@acl.hhs.gov.
Washington | Melvenia Wright | Melvenia.Wright@acl.hhs.gov.
West Virginia | Rebecca Ellison | Rebecca.Ellison@acl.hhs.gov.
Wisconsin | Melvenia Wright | Melvenia.Wright@acl.hhs.gov.
Wyoming | Katherine Cargill-Willis | Katherine.Cargill-Willis@acl.hhs.gov.

2. Submission Dates and Times

To receive consideration, Letters of Assurance must be submitted by 11:59 p.m. Eastern Time on April 23, 2021. Letters of Assurance should be submitted electronically via email and have an electronic time stamp indicating the date/time submitted.

VII. Agency Contacts

1. Programmatic Issues

Direct programmatic inquiries to your program officer listed above or Ophelia McLain at Ophelia.mclain@acl.hhs.gov.

2. Submission Issues

Direct inquiries regarding submission of the Letters of Assurance to the appropriate ACL Program Officer found in the table in “Section IV. Submission Information.”

Dated: April 5, 2021.
Alison Barkoff,
Acting Administrator and Assistant Secretary for Aging.

[FR Doc. 2021-07292 Filed 4-8-21; 8:45 am]

BILLING CODE 4154-01-P